DEPARTMENT OF ENERGY

Federal Energy Regulatory Commission

[Docket No. OR18-1-000]

CVR Logistics, LLC; Notice of Request for Temporary Waiver

Take notice that on October 19, 2017, pursuant to Rule 204 of the Federal Energy Regulatory Commission's (Commission) Rules of Practice and Procedure, 18 CFR 385.204, CVR Logistics, LLC filed a petition for temporary waiver of the tariff filing and reporting requirements applicable to interstate oil pipelines under Sections 6 and 20 of the Interstate Commerce Act and Parts 341 and 357 of the Commission's regulations. This request pertains to certain oil pipeline facilities and its associated appurtenances to be operated by Applicant within the States of Kansas and Oklahoma, as more fully explained in the petition.

Any person desiring to intervene or to protest this filing must file in accordance with Rules 211 and 214 of the Commission's Rules of Practice and Procedure (18 CFR 385.211 and 385.214. Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on October 27, 2017.

Dated: October 24, 2017.
Nathaniel J. Davis, Sr.,
Deputy Secretary.

[FR Doc. 2017-23882 Filed 11-1-17; 8:45 am]

BILLING CODE 6717-01-P